DEPARTMENT OF COMMERCE

International Trade Administration

[A-588-824]

Certain Corrosion-Resistant Carbon Steel Flat Products From Japan: Rescission of Antidumping Duty Administrative Review

AGENCY: Import Administration, International Trade Administration, Department of Commerce.

ACTION: Notice of rescission of antidumping duty administrative review.

SUMMARY: On October 2, 2000, the Department of Commerce published in the Federal Register (65 FR 58733) a notice announcing the initiation of an administrative review of the antidumping duty order on Certain Corrosion-Resistant Carbon Steel Flat Products from Japan for three producers/exporters, Nippon Steel Corporation (“Nippon”), Kawasaki Steel Corporation (“Kawasaki”), and Daido Metal Corporation (“Daido”) covering the period of review (“POR”), which is August 1, 1999 through July 31, 2000. The Department of Commerce is rescinding this review with respect to Nippon and Kawasaki pursuant to a timely request from petitioners, the only party that requested the review of these companies. In addition, we are rescinding this review with respect to Daido because, on November 21, 2000, its affiliated U.S. importer, Dana Glacier Daido America, LLC (“Dana”), who had requested the review, withdrew its request for this review within 90 days of the date of publication of notice of initiation, pursuant to 19 CFR 351.213(d)(1). Petitioners did not request a review of Daido.

EFFECTIVE DATE: December 19, 2000.

FOR FURTHER INFORMATION CONTACT: Catherine Bertrand, Brandon Farlander, or Laurel LaCivita, Office 9, AD/CVD Enforcement Group III, Import Administration, International Trade Administration, U.S. Department of Commerce, 14th Street and Constitution Avenue, NW., Washington, DC 20230; telephone: (202) 482-3207, (202) 482-0182, or (202) 482-4243, respectively.

SUPPLEMENTARY INFORMATION:

Applicable Statute and Regulations

Unless otherwise indicated, all citations to the Tariff Act of 1930, as amended, are to the provisions effective January 1, 1995, the effective date of the amendments made to the Tariff Act by the Uruguay Round Agreements Act (URAA). In addition, unless otherwise indicated, all citations to the Department of Commerce's (the Department) regulations are to the regulations codified at 19 CFR part 351 (2000).

Background

The Department published in the Federal Register on August 16, 2000 (65 FR 49962) a “Notice of Opportunity to Request Administrative Review” of the antidumping duty order on Certain Corrosion-Resistant Carbon Steel Flat Products from Japan. On August 31, 2000, petitioners requested that the Department conduct an administrative review of this order with respect to Nippon and Kawasaki. Also, on August 31, 2000, Dana requested an administrative review for merchandise produced by Daido and imported by Dana, pursuant to 19 U.S.C. section 1675(a)(1) and 19 CFR section 351.213(b)(3). On October 2, 2000, the Department initiated an administrative review for the period August 1, 1999 through July 31, 2000 (65 FR 58733). On October 3, 1999, the Department issued questionnaires to Nippon, Kawasaki, and Daido.

Kawasaki

On November 8, 2000, Kawasaki submitted section A of its questionnaire response. On December 6, 2000, petitioners requested that the Department rescind the review with respect to Kawasaki. Petitioners were the only party requesting the review and their request for withdrawal was made within 90 days of the date of publication of the notice of initiation in accordance with 19 CFR section 351.213(d)(1) of the Department's regulations. The Department is therefore rescinding the review with respect to Kawasaki in accordance with that regulation.

Nippon

On October 31, 2000, Nippon submitted section A of its questionnaire response. On December 6, 2000, petitioners requested that the Department rescind the review with respect to Nippon. Petitioners were the only party requesting the review and their request for withdrawal was made within 90 days of the date of publication of the notice of initiation in accordance with 19 CFR section 351.213(d)(1). The Department is therefore rescinding the review with respect to Nippon in accordance with that regulation.

Daido

On November 21, 2000, U.S. importer Dana withdrew its request for administrative review of Daido. Dana was the only party requesting the review and its request for withdrawal was made within 90 days of the date of publication of the notice of initiation in accordance with 19 CFR section 351.213(d)(1). The Department is therefore rescinding the review with respect to Daido in accordance with that regulation.

This notice is issued and published in accordance with 19 CFR section 351.213(d)(4).

Dated: December 12, 2000.
Joseph A. Spetrini,
Deputy Assistant Secretary, AD/CVD Enforcement Group III.

[FR Doc. 00-32172 Filed 12-18-00; 8:45 am]

BILLING CODE 3510-DS-P